DEPARTMENT OF COMMERCE

National Oceanic and Atmospheric Administration

RIN 0648-XG978

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. This Exempted Fishing Permit would exempt six commercial fishing vessels from limited access sea scallop regulations in support of a study on seasonal bycatch distribution and characterize scallop meat health on Georges Bank.

Regulations under the Magnuson-Stevens Fishery Conservation and Management Act require publication of this notification to provide interested parties the opportunity to comment on applications for proposed Exempted Fishing Permits.

DATES: Comments must be received on or before June 4, 2019.

ADDRESSES: You may submit written comments by any of the following methods:

• Email: nmfs.gar.efp@noaa.gov. Include in the subject line “DA19-034 CFF Seasonal Survey in the Atlantic Sea Scallop Fishery EFP.”

• Mail: Michael Pentony, Regional Administrator, NMFS, Greater Atlantic Regional Fisheries Office, 55 Great Republic Drive, Gloucester, MA 01930. Mark the outside of the envelope “DA19-034 CFF Seasonal Survey in the Atlantic Sea Scallop Fishery EFP.”

FOR FURTHER INFORMATION CONTACT: Aly Pitts, Fishery Management Specialist, 978-281-9352.

SUPPLEMENTARY INFORMATION: Coonamesset Farm Foundation (CFF) submitted an exempted fishing permit (EFP) application in support of a project titled “Seasonal Survey in the Atlantic Sea Scallop Fishery,” that has been funded under the 2019 Atlantic Sea Scallop Research Set-Aside (RSA) Program.

This project would look primarily at the seasonal distribution of bycatch of yellowtail and windowpane flounder on the eastern part of Georges Bank in relation to sea scallop meat weight yield. Additional objectives include testing of an experimental cover net to better understand dredge efficiency and selectivity, and collection of biological samples to examine scallop meat quality and yellowtail flounder liver disease. Investigators would also work in cooperation with New Hampshire Fish and Game (NHFG) and the Atlantic Offshore Lobstermen's Association (AOLA) to tag female lobsters.

To enable this research, CFF is requesting exemptions for six commercial fishing vessels from the Atlantic sea scallop days-at-sea (DAS) allocations at 50 CFR 648.53(b); crew size restrictions at § 648.51(c); observer program requirements at § 648.11(g); Closed Area II (CAII) scallop gear restrictions specified at § 648.81(b); and access area program requirements at § 648.59(a)(1)-(3), (b)(2), (b)(4), Closed Area II Scallop Access Area Seasonal Closure at § 648.60(d)(2); and dredge or net obstructions at § 648.51(b)(4)(iii). CFF has also requested that vessels be exempt from possession limits and minimum size requirements specified in part 648, subsections B and D through O for biological sampling, and § 697.20 for lobster sampling and tagging purposes only.

Participating vessels would conduct scallop dredging from August 2019 through June 2020. Six vessels would conduct a total of six 5-day trips, for a total of 30 days at sea (DAS). The survey area would be in Closed Area II Access Area, with 3 stations north of the Closed Area II Access Area. Open area tows would be conducted on the western and southern boundaries of Closed Area II.

There is a potential for gear conflict with lobster gear in the central portion of Closed Area II. In an effort to help mitigate gear interactions, CFF would distribute the time and location of stations to the lobster industry, work only during daylight hours, post an extra lookout to avoid gear, and actively avoid tangling in stationary gear. The project would work in cooperation in with NHFG and AOLA to tag lobsters with the primary goal of documenting their movement on and off Georges Bank. The applicant states that data from the tagging project could also help answer questions of lobster discard mortality in the scallop fishery.

All tows would be conducted with two 15-foot (4.6-m) turtle deflector dredges for a duration of 30 minutes using an average tow speed of 4.8 knots. Both dredges would be rigged with a 7-row apron and twine top hanging ratio of 2:1, the experimental dredge would have an attached cover net with 2-inch (5.0-cm) mesh extending from the back of the head bale to the clubstick. Both dredge frames would be rigged with identical rock and tickler chain configurations, 10-inch (25.4-cm) twine top, and 4-inch (10.2-cm) ring bag. Gear comparison data will help improve efforts to reduce scallop dredge bycatch. With the exception of the cover net, dredge gear would conform to scallop gear regulations.

For all tows, the entire sea scallop catch would be counted into baskets and weighed. One basket from each dredge would be randomly selected, and the scallops would be measured in 5-milimeter increments to determine size selectivity. All finfish catch would be sorted by species and then counted and measured. Weight, sex, and reproductive state would be determined for a random subsample (n=10) of yellowtail, winter, and windowpane flounders. Lobsters would be measured, sexed, and evaluated for damage and shell disease. No catch would be retained for longer than needed to conduct scientific sampling, and no catch would be landed for sale. All catch estimates for the project are listed in Table 1, below.

Table 1—Coonamessett Farm Foundation Georges Bank Scallop Research Project
Common name | Scientific name | Estimated weight (lb) * | Estimated weight (kg)
Sea Scallop | Placopecten magellanicus | 33,103 | 111,758
Yellowtail Flounder | Limanda ferruginea | 1,097 | 498
Winter Flounder | Pseudopleuronectes americanus | 1,605 | 69
Windowpane Flounder | Scophthalmus aquosus | 5,656 | 2,195
Summer Flounder | Paralichthys dentatus | 1,886 | 495
Fourspot Flounder | Paralichthys oblongus | 148 | 342
American Plaice | Hippoglossoides platessoides | 180 | 52
Grey Sole | Glyptocephalus cynoglossus | 24 | 29
Haddock | Melanogrammus aeglefinus | 116 | 25
Atlantic Cod | Gadus morhua | 199 | 60
Monkfish | Lophius americanus | 16,839 | 9,218
Spiny Dogfish | Squalus acanthias | 173 | 25
Barndoor Skates | Dipturus laevis | 2,217 | 2,018
NE Skate Complex (excluding barndoor skate) | Leucoraja erinacea, Leucoraja ocellata | 127,055 | 48,920
American lobster | Homarus americanus | 196 **
* Weights estimated using catch from a similar 2017 project.
** Number of individual animals estimated to be caught.

The applicant states that the exemptions are necessary to allow them to conduct experimental dredge towing without being charged DAS, evaluate twine top and dredge apron escapement, and deploy gear in areas that are currently closed to scallop fishing. Participating vessels need crew size waivers to accommodate science personnel. Exemptions from possession limits would allow researchers to sample finfish and lobster catch that exceeds possession limits or prohibitions. The project would be exempt from the sea scallop observer program requirements because activities conducted on the trip are not consistent with normal fishing operations. Researchers from CFF will accompany each trip taken under the EFP. The goal of the proposed work is to provide information on spatial and temporal patterns in bycatch rates in the scallop fishery, with the objective of identifying mechanisms to mitigate bycatch. The data collected would enhance understanding of bycatch and scallop yield as they relate to access and open area management.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 14, 2019.
Kelly L. Denit,
Acting Director, Office of Sustainable Fisheries, National Marine Fisheries Service.

[FR Doc. 2019-10356 Filed 5-17-19; 8:45 am]

BILLING CODE 3510-22-P